DEPARTMENT OF COMMERCE

International Trade Administration

[A-469-815]

Finished Carbon Steel Flanges From Spain: Final Results of Antidumping Duty Administrative Review; 2018-2019

AGENCY: Enforcement and Compliance, International Trade Administration, Department of Commerce.

SUMMARY: The Department of Commerce (Commerce) finds that sales of finished carbon steel flanges (flanges) from Spain were made at less than normal value (NV) during the period of review (POR), June 1, 2018, through May 31, 2019.

DATES: Applicable May 5, 2021.

FOR FURTHER INFORMATION CONTACT: Marc Castillo or Mark Flessner, AD/CVD Operations, Office VI, Enforcement and Compliance, International Trade Administration, Department of Commerce, 1401 Constitution Avenue NW, Washington, DC 20230; telephone: (202) 482-0519 or (202) 482-6312, respectively.

SUPPLEMENTARY INFORMATION:

Background

On November 2, 2020, Commerce published the Preliminary Results of this administrative review and invited interested parties to comment on the Preliminary Results.¹ These final results cover eight companies for which an administrative review was initiated and not rescinded. On December 2, 2020, ULMA Forja, S.Coop (ULMA) submitted its case brief.² On the same day, Weldbend Corporation and Boltex Manufacturing Co., L.P. (collectively, the petitioners) submitted their case brief.³ On December 9, 2020, the petitioners submitted their rebuttal brief.⁴ On February 11, 2021, Commerce extended the deadline for these final results, until April 30, 2021.⁵

¹ See Finished Carbon Steel Flanges from Spain: Preliminary Results of Antidumping Duty Administrative Review; 2018-2019, 85 FR 69314 (November 2, 2020) (Preliminary Results); see also Memorandum, “Finished Carbon Steel Flanges from Spain, 2018-2019: Preliminary Results Federal Register Notice and Amended Briefing Schedule,” dated November 6, 2020. On October 22, 2020, Commerce published in the Federal Register the preliminary results for this administrative review of the Order for this POR (85 FR 67335). On November 2, 2020, Commerce inadvertently again published in the Federal Register the Preliminary Results; this second notice was identical to that published on October 22, 2020. In fairness to all parties and to prevent confusion, this November 2, 2020, notice is the operative notice of the Preliminary Results for this administrative review.

² See ULMA's Letter, “ULMA FORJA's Case Brief: Finished Carbon Steel Flanges from Spain POR 2,” dated December 2, 2020.

³ See Petitioners' Letter, “Finished Carbon Steel Flanges from Spain: Case Brief,” dated December 2, 2020.

⁴ See Petitioners' Letter, “Finished Carbon Steel Flanges from Spain: Rebuttal Brief,” dated December 9, 2020.

⁵ See Memorandum, “Finished Carbon Steel Flanges from Spain: Extension of Time Limit for Final Results of Antidumping Duty Administrative Review, 2018-2019,” dated February 11, 2021.

Scope of the Order ⁶

⁶ See Finished Carbon Steel Flanges from Spain: Antidumping Duty Order, 82 FR 27229 (June 14, 2017) (Order).

The scope of the Order covers finished carbon steel flanges from Spain. A full description of the scope of the Order is contained in the Issues and Decision Memorandum.⁷

⁷ See accompanying Issues and Decision Memorandum.

Analysis of Comments Received

All issues raised in the case and rebuttal briefs filed by parties in this review are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly on the internet at http://enforcement.trade.gov/frn/index.html.

Changes Since the Preliminary Results

Based on our analysis of the comments received, and for the reasons explained in the Issues and Decision Memorandum, we made certain changes from the Preliminary Results.

Final Results of Administrative Review

For these final results, we determine that the following weighted-average dumping margins exist for the period June 1, 2018, through May 31, 2019:

Exporter/manufacturer | Weighted- average dumping margin (percent)
ULMA Forja, S.Coop | 1.41
Grupo Cunado | 1.41
Tubacero, S.L | 1.41
Ateaciones De Metales Sinterizados S.A | 1.41
Transglory S.A | 1.41
Central Y Almacenes | 1.41
Friedrich Geldbach Gmbh | 1.41
Farina Group Spain | 1.41

Rate for Non-Selected Respondents

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a margin for ULMA that was not zero, de minimis, or based on facts available. Accordingly, we have applied the margin calculated for ULMA to the non-individually examined respondents.

Disclosure

Commerce intends to disclose the calculations performed for these final results of review within five days of the date of publication of this notice in the Federal Register, in accordance with 19 CFR 351.224(b).

Assessment

Commerce shall determine and U.S. Customs and Border Protection (CBP) shall assess antidumping duties on all appropriate entries. Commerce will instruct CBP to apply an ad valorem assessment rate of 1.41 percent to all entries of subject merchandise during the POR which were produced and/or exported by ULMA. Commerce will also instruct CBP to apply an ad valorem assessment rate of 1.41 percent to all entries of subject merchandise during the POR which were produced and/or exported by Grupo Cunado, Tubacero, S.L., Ateaciones De Metales Sinterizados S.A., Transglory S.A., Central Y Almacenes, Friedrich Geldbach Gmbh, and Farina Group Spain. Consistent with its recent notice,⁸ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duty Administrative Proceedings, 86 FR 3995 (January 15, 2021).

Cash Deposit Requirements

The following deposit requirements for estimated antidumping duties will be effective upon publication of the notice of these final results of review for all shipments of flanges from Spain entered, or withdrawn from warehouse, for consumption on or after the date of publication as provided by section 751(a)(2) of the Act: (1) The cash deposit rate for ULMA, Grupo Cunado, Tubacero, S.L., Ateaciones De Metales Sinterizados S.A., Transglory S.A., Central Y Almacenes, Friedrich Geldbach Gmbh, and Farina Group Spain will be 1.41 percent; (2) for merchandise exported by producers or exporters not covered in this review but covered in a prior segment of the proceeding, the cash deposit rate will continue to be the company-specific rate published for the most recent period; (3) if the exporter is not a firm covered in this review, a prior review, or the original investigation, but the producer is, then the cash deposit rate will be the rate established for the most recent period for the producer of the merchandise; (4) the cash deposit rate for all other producers or exporters will continue to be 18.81 percent,⁹ the all-others rate established in the less-than-fair-value investigation. These cash deposit requirements shall remain in effect until further notice.

⁹ See Order, 82 FR 27229.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: April 28, 2021.
Christian Marsh,
Acting Assistant Secretary for Enforcement and Compliance.

Appendix

List of Topics Discussed in the Issues and Decision Memorandum

I. Summary

II. Background

III. Scope of the Order

IV. Discussion of the Issues

Comment 1: Freight Revenue Capping

Comment 2: Marine Insurance

Comment 3: Certain Offset to G&A Expenses

V. Recommendation

[FR Doc. 2021-09413 Filed 5-4-21; 8:45 am]

BILLING CODE 3510-DS-P